DEPARTMENT OF TRANSPORTATION

Research and Special Programs Administration

Office of Hazardous Materials Safety; Notice of Application for Modification of Exemption

AGENCY: Research and Special Programs Administration, DOT.

ACTION: List of applications for modification of exemptions.

SUMMARY: In accordance with the procedures governing the application for, and the processing of, exemptions from the Department of Transportation's Hazardous Materials Regulations (49 CFR part 107, subpart B), notice is hereby given that the Office of Hazardous Materials Safety has received the applications described herein. This notice is abbreviated to expedite docketing and public notice. Because the sections affected, modes of transportation, and the nature of application have been shown in the earlier Federal Register publications, they are not repeated here. Requests for modifications of exemptions (e.g. to provide for additional hazardous materials, packaging design changes, additional mode of transportation, etc.) are described in footnotes to the application number. Application numbers with the suffix “M” denote a modification request. These applications have been separated from the new applications for exemptions to facilitate processing.

DATES: Comments must be received on or before April 13, 2001.

ADDRESSES: Send comments to: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street SW., Washington, DC or at http://dms.dot.gob.

This notice of receipt of applications for modification of exemptions is published in accordance with Part 107 of the Federal hazardous materials transportation law (49 U.S.C. 5117(b); 49 CFR 1.53(b)).

Issued in Washington, DC, on March 22, 2001.
R. Ryan Posten,
Exemptions Program Officer, Office of Hazardous Materials Exemptions and Approvals.

Application No. | Docket No. | Applicant | Modification of exemption
7954-M |  | Air Products and Chemicals, Inc., Allentown, PA (See Footnote 1) | 7954
9048-M |  | Sulton Group—Div. of Daniel/Brooks Petroleum Opns, Tulsa, OK (See Footnote 2) | 9048
9525-M |  | Air Products and Chemicals, Inc., Allentown, PA (See Footnote 3) | 9525
11226-M |  | E.R. Carpenter, L.P., Pasadena, TX (See Footnote 4) | 11226
11494-M |  | Atlantic Research Corp., Automotive Products Group, Knoxville, TN (See Footnote 5) | 11494
11536-M |  | Boeing Satellite Systems, Inc., Los Angeles, CA (See Footnote 6) | 11536
11650-M |  | Autoliv ASP, Inc., Ogden, UT (See Footnote 7) | 11650
11782-M |  | Aeronex, Inc., San Diego, CA (See Footnote 8) | 11782
12122-M | RSPA-98-4313 | Atlantic Research Corp., Automotive Products Group, Knoxville, TN (See Footnote 9) | 12122
12633-M | RSPA-01-8912 | Isolair Helicopter Systems, Troutdale, OR (See Footnote 10) | 12633
12637-M | RSPA-01-8916 | Island Gases Limited, Christiansted, St. Croix, U.S., VI (See Footnote 11) | 12637
¹ To modify the exemption to change the proper shipping name and placard provisions for the transportation of certain compressed gases in manifolded DOT Specification cylinders.
² To modify the exemption to authorize the use of an additional portable meter prover and an increase of the internal volume to 290 gallons for the transportation of Division 2.2 and Class 3 materials.
³ To modify the exemption to allow for the transportation of additional Class 3 materials in a non-DOT specification welded stainless steel cylinder.
⁴ To modify the exemption to allow for the transportation of Class 3 materials in DOT specification tank cars.
⁵ To modify the exemption to allow for the transportation of additional Division 2.2 materials in non-DOT specification cylinders for use as components of automotive vehicle safety systems.
⁶ To modify the exemption to allow for the transportation of additional Division 2.2 materials in non-DOT specification packaging.
⁷ To modify the exemption to authorize a design change of the non-DOT specification non-refillable cylinder utilizing a sidewall gas fill port with a maximum service pressure of 5000 PSIG.
⁸ To modify the exemption to authorize rail freight and cargo vessel as additional modes of transportation for Division 4.2 materials in non-DOT specification cylinders.
⁹ To modify the exemption to allow for the transportation of additional Division 2.2 materials in non-DOT specification cylinders, for use as components of automotive vehicle safety systems.
¹⁰ To reissue the exemption originally issued on an emergency basis for the transportation of gasoline in a non-DOT specification, non-bulk package (drum) mounted in a heli-torch frame.
¹¹ To reissue the exemption originally issued on an emergency basis for the transportation of certain Division 2.2 materials in non-DOT specification vacuum insulated portable tanks.

[FR Doc. 01-7663 Filed 3-28-01; 8:45 am]

BILLING CODE 4910-60-M